NATIONAL AERONAUTICS AND SPACE ADMINISTRATION

[01-128]

NASA Advisory Council, Minority Business Resource Advisory Committee Meeting

AGENCY: National Aeronautics and Space Administration.

ACTION: Notice of meeting.

SUMMARY: In accordance with the Federal Advisory Committee Act, Public Law 92-463, as amended, the National Aeronautics and Space Administration announce a forthcoming meeting of the NASA Advisory Council, Minority Business Resource Advisory Committee.

DATES: Thursday, November 8, 2001, 9:00 a.m. to 4:00 p.m., and Friday, November 9, 2001, 9:00 a.m. to 12:00 noon.

ADDRESSES: Hyatt Regency Washington, One Capitol Hill, 400 New Jersey Avenue, NW, Washington, DC.

FOR FURTHER INFORMATION CONTACT: Mr. Ralph C. Thomas III, Code K, National Aeronautics and Space Administration, (202) 358-2088.

SUPPLEMENTARY INFORMATION: The meeting will be open to the public up to the seating capacity of the room. The agenda for the meeting is as follows:

—Review of Previous Meeting

—OSDBU Update of Activities

—NAC Meeting Report

—Overview of NASA Enterprises and Functional Staff Offices

—Public Comment

—Panel Discussion and Review

—Goals for MBRAC V Review

—Status of Open Committee Recommendations

—New Business

It is imperative that the meeting be held on these dates to accommodate the scheduling priorities of the key participants. Visitors will be requested to sign a visitor's register.

Beth M. McCormick,
Advisory Committee Management Officer, National Aeronautics and Space Administration.

[FR Doc. 01-26632 Filed 10-22-01; 8:45 am]

BILLING CODE 7510-01-P